COMMITTEE FOR THE IMPLEMENTATION OF TEXTILE AGREEMENTS

Announcement of Import Restraint Limits for Certain Wool Textile Products Produced or Manufactured in Ukraine and Reinstating Textile Visa Requirements

February 17, 2005.

AGENCY: Committee for the Implementation of Textile Agreements (CITA).

ACTION: Issuing a directive to the Commissioner, Bureau of Customs and Border Protection establishing limits and reinstating textile visa requirements.

EFFECTIVE DATE: January 1, 2005.

FOR FURTHER INFORMATION CONTACT: Naomi Freeman, International Trade Specialist, Office of Textiles and Apparel, U.S. Department of Commerce, (202) 482-4212. For information on the quota status of these limits, refer to the Bureau of Customs and Border Protection website (http://www.cbp.gov), or call (202) 344-2650. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The Bilateral Textile Agreement of July 22, 1998, as amended and extended by exchange of notes on November 19, 2004, December 31, 2004, and February 7, 2005, between the Governments of the United States and Ukraine establishes limits for certain wool textile products, produced or manufactured in Ukraine and exported during the period beginning on January 1, 2005 and extending through December 31, 2005. Goods exported from Ukraine will also no longer be subject to the notice and letter concerning overshipments of 2004 limits (see 69 FR 72181, published on December 13, 2004).

In the letter published below, the Chairman of CITA directs the Commissioner, Bureau of Customs and Border Protection to establish the 2005 limits. The letter also directs the Commissioner to reinstate textile visa requirements for Ukraine; those requirements were suspended in a notice and letter to the Commissioner dated December 30, 2004 (see 70 FR 793, published on January 5, 2005). These requirements are set forth in the notice and letter to the Commissioner of Customs dated February 22, 1999 (see 64 FR 9477). In order to provide a period for adjustment, the United States will allow shipments of goods that are not accompanied by an export visa to enter the United States if exported prior to March 25, 2005. However, shipments exported from Ukraine on or after March 25, 2005, must be accompanied by an export visa issued by the Government of Ukraine, and shipments without an export visa will be denied entry.

These limits may be revised if Ukraine becomes a member of the World Trade Organization (WTO) and the United States applies the WTO agreement to Ukraine.

A description of the textile and apparel categories in terms of HTS numbers is available in the CORRELATION: Textile and Apparel Categories with the Harmonized Tariff Schedule of the United States (see Federal Register notice 69 FR 4926, published on February 2, 2004). Information regarding the availability of the 2005 CORRELATION will be published in the Federal Register at a later date.

James C. Leonard III,
Chairman, Committee for the Implementation of Textile Agreements.

Committee for the Implementation of Textile Agreements

February 17, 2005.

Commissioner,

Bureau of Customs and Border Protection, Washington, DC 20229.

Dear Commissioner: Pursuant to section 204 of the Agricultural Act of 1956, as amended (7 U.S.C. 1854); Executive Order 11651 of March 3, 1972, as amended; and the Bilateral Textile Agreement of July 22, 1998, as amended and extended by exchange of notes on November 19, 2004, December 31, 2004, and February 7, 2005, between the Governments of the United States and Ukraine, you are directed to prohibit, effective on January 1, 2005, entry into the United States for consumption and withdrawal from warehouse for consumption of wool textile products in the following categories, produced or manufactured in Ukraine and exported during the twelve-month period beginning on January 1, 2005 and extending through December 31, 2005, in excess of the following levels of restraint:

Category | Twelve-month limit
435 | 108,000 dozen.
442 | 17,230 dozen.
444 | 74,665 numbers.
448 | 74,665 dozen.

The limits set forth above are subject to adjustment pursuant to the current bilateral agreement between the Governments of the United States and Ukraine.

These limits may be revised if Ukraine becomes a member of the World Trade Organization (WTO) and the United States applies the WTO agreement to Ukraine.

Products in the above categories exported during 2004 shall be charged to the applicable category limits for that year (see directive dated December 10, 2003) to the extent of any unfilled balances. In the event the limits established for that period have been exhausted by previous entries, such products shall be charged to the limits set forth in this directive. Goods exported from Ukraine will also no longer be subject to the directive dated December 9, 2004 concerning overshipments of 2004 limits.

You are also directed to reinstate textile visa requirements for Ukraine, as set forth in the directive dated February 22, 1999, thus canceling the directive dated December 30, 2004 that suspended such requirements. In order to provide a period for adjustment, the United States will allow shipments of goods that are not accompanied by an export visa to enter the United States if exported prior to March 25, 2005. However, shipments exported from Ukraine on or after March 25, 2005, must be accompanied by an export visa issued by the Government of Ukraine, and shipments without an export visa will be denied entry.

In carrying out the above directions, the Commissioner, Bureau of Customs and Border Protection should construe entry into the United States for consumption to include entry for consumption into the Commonwealth of Puerto Rico.

The Committee for the Implementation of Textile Agreements has determined that these actions fall within the foreign affairs exception of the rulemaking provisions of 5 U.S.C. 553(a)(1).

Sincerely,

James C. Leonard III,

Chairman, Committee for the Implementation of Textile Agreements.

FR Doc. E5-740 Filed 2-22-05; 8:45 am]

BILLING CODE 3510-DRS